DEPARTMENT OF COMMERCE

International Trade Administration

[A-489-831]

Carbon and Alloy Steel Wire Rod From the Republic of Turkey: Notice of Court Decision Not in Harmony With Amended Final Determination of Antidumping Duty Investigation; Notice of Amended Final Determination, Amended Antidumping Duty Order; Notice of Revocation of Antidumping Duty Order, in Part

AGENCY: Enforcement and Compliance, International Trade Administration, Department of Commerce.

SUMMARY: On May 20, 2021, the United States Court of International Trade (CIT) issued its final judgment in Icdas Celik Enerji Tersane ve Ulasim Sanayi, A.S., et al. v. United States, Consol. Court no. 18-000143, sustaining the Department of Commerce (Commerce)'s second remand determination pertaining to the antidumping duty (AD) investigation of carbon and alloy steel wire rod (wire rod) from the Republic of Turkey (Turkey) covering the period of investigation January 1, 2016, through December 31, 2016. Commerce is notifying the public that the CIT's final judgement is not in harmony with Commerce's amended final determination in that investigation, and that Commerce is amending the amended final determination and the resulting AD order with respect to the dumping margin assigned to producer and/or exporter Icdas Celik Enerji Tersane ve Ulasim Sanayi A.S. (Icdas) and all other producers and/or exporters. In addition, Commerce is amending the amended final determination to exclude merchandise produced and exported by Habas Sinai ve Tibbi Gazlar Istihsal Endustrisi A.S. (Habas) from the order.

DATES: Applicable May 30, 2021.

FOR FURTHER INFORMATION CONTACT: Emily Halle, AD/CVD Operations, Office V, Enforcement and Compliance, International Trade Administration, U.S. Department of Commerce, 1401 Constitution Avenue NW, Washington, DC 20230; telephone: (202) 482-0176.

SUPPLEMENTARY INFORMATION:

Background

On March 28, 2018, Commerce published its Final Determination in the AD investigation of wire rod from Turkey.¹ After correcting a ministerial error contained in the Final Determination, on May 21, 2018, Commerce published the Amended Final Determination and Order, and calculated a revised weighted-average dumping margin of 4.93 percent for Habas, 7.94 percent for Icdas, and 6.44 percent for all other producers/exporters of subject merchandise.²

¹ See Carbon and Alloy Steel Wire Rod from Turkey: Final Determination of Sales at Less Than Fair Value and Final Negative Determination of Critical Circumstances, 83 FR 13249 (March 28, 2018) (Final Determination), and accompanying Issues and Decision Memorandum (IDM).

² See Carbon and Alloy Steel Wire Rod from Italy, the Republic of Korea, Spain, the Republic of Turkey, and the United Kingdom: Antidumping Duty Orders and Amended Final Affirmative Antidumping Duty Determinations for Spain and the Republic of Turkey, 83 FR 23417-18 (May 21, 2018) (Amended Final Determination and Order).

Icdas and Habas appealed Commerce's Final Determination, as modified by the Amended Final Determination and Order. On January 28, 2020, the CIT remanded the Amended Final Determination and Order to Commerce, directing Commerce to recalculate Habas' and Icdas' duty drawback adjustments using a different calculation methodology than the duty neutral methodology Commerce applied in the Final Determination, which allocated the duty drawback over total cost of production.³

³ See Icdas Celik Enerji Tersane ve Ulasim Sanayi, A.S., et al. v. United States, Consol. Court No. 18-00143, Slip Op. 20-10 (January 28, 2020) (First Remand Order) at 30.

In its first remand redetermination, issued in April 2020, Commerce recalculated Icdas' and Habas' duty drawback adjustment by adding the full amount of exempted duties to Habas' and Icdas' U.S. price, and adding the same per-unit duty amount to normal value as a circumstance-of-sale adjustment.⁴ As a result of the changes in the First Results of Redetermination, Commerce calculated estimated weighted-average dumping margins of 3.22 percent for Habas, 8.72 percent for Icdas, and 4.78 percent for all other producers/exporters of subject merchandise.⁵ The CIT remanded Commerce's determination for a second time, ordering Commerce to recalculate normal value without making a circumstance-of-sale adjustment related to the duty drawback adjustment made to U.S. price.⁶

⁴ See Final Results of Redetermination Pursuant to Court Remand, Icdas Celik Enerji Tersane ve Ulasim Sanayi, A.S., et al. v. United States, Consol. Ct. No. 18-00143, Slip Op. 20-10, dated April 27, 2020 (First Results of Redetermination).

⁵ Id. at 44.

⁶ See Icdas Celik Enerji Tersane ve Ulasim Sanayi, A.S., et al. v. United States, Consol. Court No. 18-00143, Slip Op. 20-137 (Sept. 23, 2020) (Second Remand Order) at 17.

In its final remand redetermination, issued in December 2020, Commerce calculated a duty drawback adjustment for Habas and Icdas without making a circumstance-of-sale adjustment to normal value, resulting in a revised weighted-average dumping margin of 0.00 percent for Habas, and 4.44 percent for Icdas and all other producers/exporters of subject merchandise.⁷

⁷ See Final Results of Redetermination Pursuant to Second Court Remand, Icdas Celik Enerji Tersane ve Ulasim Sanayi, A.S., et al. v. United States, Consol. Ct. No. 18-00143, Slip Op. 20-137, dated December 11, 2020 (Second Results of Redetermination).

The CIT sustained Commerce's final redetermination.⁸

⁸ See Icdas Celik Enerji Tersane ve Ulasim Sanayi, A.S., et al. v. United States, Consol. Court No. 18-00143, Slip Op. 21-65 (May 20, 2021) (CIT Final Judgment).

Timken Notice

In its decision in Timken,⁹ as clarified by Diamond Sawblades,¹⁰ the Court of Appeals for the Federal Circuit (CAFC) held that, pursuant to sections 516A(c) and (e) of the Tariff Act of 1930, as amended (the Act), Commerce must publish a notice of court decision that is not “in harmony” with a Commerce determination and must suspend liquidation of entries pending a “conclusive” court decision. The CIT's May 20, 2021, judgment constitutes a final decision of the CIT that is not in harmony with Commerce's Amended Final Determination and Order. Thus, this notice is published in fulfillment of the publication requirements of Timken.

⁹ See Timken Co. v United States, 893 F.2d 337 (Fed. Cir. 1990) (Timken).

¹⁰ See Diamond Sawblades Mfrs. Coalition v. United States, 626 F.3d 1374 (Fed. Cir. 2010) (Diamond Sawblades).

Amended Final Determination and Antidumping Duty Order

Because there is now a final court judgment, Commerce is amending its Amended Final Determination and Order with respect to Habas, Icdas, and all other producers/exporters as follows:

Producer/exporter | Weighted- average dumping margin (percent) | Cash deposit rate (adjusted for export subsidies)
Habas Sinai ve Tibbi Gazlar Istihsal Endustrisi A.S ¹¹ | 0.00 | 0.00
Icdas Celik Enerji Tersane ve Ulasim Sanayi A.S | 4.44 | 0.65
All Others | 4.44 | 0.65

Notice of Revocation of Antidumping Duty Order, in Part

¹¹ As discussed below in the “Liquidation of Suspended Entries” section, entries produced and exported by Habas are excluded from the AD order.

Pursuant to section 735(a)(4) of the Act, Commerce “shall disregard any weighted average dumping margin that is de minimis as defined in section 733(b)(3) of the Act.” ¹² As a result of this amended final determination, Commerce is hereby excluding from this Order merchandise produced and exported by Habas, for which Commerce has calculated an estimated weighted-average dumping margin of 0.00 percent.¹³ This exclusion will not be applicable to merchandise exported to the United States by Habas in any other producer/exporter combination or by third parties that sourced subject merchandise from the excluded producer/exporter combination.¹⁴ As a result of the exclusion, Commerce will not initiate any new administrative reviews of the AD order with respect to merchandise produced and exported by Habas. However, a review may be conducted with regard to merchandise produced by Habas and exported by another company or produced by any other company and exported by Habas, as such merchandise is not subject to exclusion.

¹² Section 733(b)(3) of the Act defines de minimis dumping margin as “less than 2 percent ad valorem or the equivalent specific rate for the subject merchandise.”

¹³ See Second Results of Redetermination at 7.

¹⁴ Id.

Cash Deposit Requirements for Icdas and All Other Producers/Exporters

Because Icdas and all other producers/exporters do not have superseding cash deposit rates, i.e., there have been no final results published in subsequent administrative reviews for Icdas and all other producers/exporters, Commerce will issue revised cash deposit instructions to U.S. Customs and Border Protection (CBP).

Liquidation of Suspended Entries

As a result of this Amended Final Determination and Order, in which Commerce calculated a revised weighted-average dumping margin of 0.00 percent for Habas, Commerce is hereby excluding merchandise produced and exported by Habas from the AD order. Accordingly, for entries of merchandise produced and exported by Habas that were entered, or withdrawn from warehouse for consumption, prior to May 30, 2021, Commerce will direct CBP to liquidate such entries without regard to antidumping duties.

For entries of merchandise produced and exported by Habas that were entered, or withdrawn from warehouse for consumption, on or after May 30, 2021, Commerce will direct CBP to continue the suspension of liquidation at a cash deposit rate of 0.00 percent. Pursuant to Timken,¹⁵ as clarified by Diamond Sawblades,¹⁶ under sections 516A(c) and (e) of the Act, Commerce must suspend liquidation of such entries pending a “conclusive” court decision. If the CIT's ruling is not appealed, or if appealed and upheld, Commerce will instruct CBP to terminate the suspension of liquidation and to liquidate entries produced and exported by Habas, and entered on or after May 30, 2021, without regard to antidumping duties.

¹⁵ See Timken, 893 F.2d 337.

¹⁶ See Diamond Sawblades, 626 F.3d 1374.

Notification to Interested Parties

This notice is issued and published in accordance with sections 516A(c) and (e), and 777(i) of the Act.

Dated: May 25, 2021.
Christian Marsh,
Acting Assistant Secretary, for Enforcement and Compliance.

[FR Doc. 2021-11466 Filed 5-27-21; 8:45 am]

BILLING CODE 3510-DS-P